DEPARTMENT OF HOMELAND SECURITY

U.S. Customs and Border Protection

19 CFR Chapter I

Notification of the Lifting of Temporary Travel Restrictions Applicable to Land Ports of Entry and Ferries Service Between the United States and Mexico for Certain Individuals Who Are Fully Vaccinated Against COVID-19 and Can Present Proof of COVID-19 Vaccination Status

AGENCY: Office of the Secretary, U.S. Department of Homeland Security; U.S. Customs and Border Protection, U.S. Department of Homeland Security.

ACTION: Notification of the lifting of temporary travel restrictions for certain travelers.

SUMMARY: This Notification announces the decision of the Secretary of Homeland Security (Secretary) to lift the temporary restrictions that apply to non-essential travel by certain individuals. Specifically, the Secretary has lifted such restrictions for individuals who have been fully vaccinated against COVID-19, can present proof of COVID-19 vaccination status, and are seeking to enter the United States via land ports of entry (POEs) and ferry terminals along the U.S.-Mexico border. The lifting of restrictions for such fully vaccinated individuals does not affect U.S. citizens and lawful permanent residents returning to the United States, regardless of whether the individual is fully vaccinated, because such travel is currently defined as essential travel.

DATES: The lifting of these restrictions began at 12 a.m. Eastern Standard Time (EST) on November 8, 2021.

FOR FURTHER INFORMATION CONTACT: Stephanie Watson, Office of Field Operations Coronavirus Coordination Cell, U.S. Customs and Border Protection (CBP) at 202-325-0840.

SUPPLEMENTARY INFORMATION:

Notice of Action

On October 21, 2021, the Secretary announced his decision to continue to temporarily restrict the non-essential travel of individuals from Mexico into the United States via land POEs and ferry terminals along the United States-Mexico border.¹ The Secretary further announced that he intended to lift these restrictions for individuals who are fully vaccinated against COVID-19 and have appropriate proof of vaccination to align with changes to international travel by air.² The Secretary stated that any such modifications to the restrictions would be accomplished via a posting to the DHS website (https://www.dhs.gov) and followed by a publication in the Federal Register.³

¹ 86 FR 58216.

² Id.

³ Id. at 58218.

On October 29, 2021, DHS posted to its website an announcement that beginning November 8, 2021, non-essential travel would be permitted through land POEs and ferry terminals, provided that the traveler is fully vaccinated against COVID-19 and can present proof of COVID-19 vaccination status. DHS stated that unvaccinated travelers may continue to cross the U.S.-Mexico border at land POEs and ferry terminals for essential travel, including lawful trade, emergency response, and public health purposes.⁴ Thus, starting November 8, 2021, when arriving at a U.S. land POE or ferry terminal, travelers who are traveling for a non-essential reason should be prepared to: (1) Present proof of COVID-19 vaccination as outlined on the CDC website; ⁵ and (2) verbally attest to the reason for their travel and COVID-19 vaccination status. The lifting of restrictions for fully vaccinated individuals does not affect U.S. citizens and lawful permanent residents returning to the United States, regardless of whether the individual is fully vaccinated, because such travel is currently defined as essential travel.

⁴ See DHS, Fact Sheet: Guidance for Travelers to Enter the U.S. at Land Ports of Entry and Ferry Terminals, https://www.dhs.gov/news/2021/10/29/fact-sheet-guidance-travelers-enter-us-land-ports-entry-and-ferry-terminals (released Oct. 29, 2021; last updated Nov. 23, 2021); see also DHS, Frequently Asked Questions: Guidance for Travelers to Enter the U.S. at Land Ports of Entry and Ferry Terminals, https://www.dhs.gov/news/2021/10/29/frequently-asked-questions-guidance-travelers-enter-us-land-ports-entry-and-ferry (released Oct. 29, 2021; last updated Nov. 23, 2021).

⁵ See CDC, Requirement for Proof of COVID-19 Vaccination for Air Passengers https://www.cdc.gov/coronavirus/2019-ncov/travelers/proof-of-vaccination.html (updated Nov. 24, 2021).

Consistent with the October 21, 2021 Federal Register notice and the October 29, 2021 web posting, DHS is publishing this notice of the lifting of the non-essential travel restrictions for certain individuals as described above.

Alejandro N. Mayorkas,
Secretary, U.S. Department of Homeland Security.

[FR Doc. 2021-28064 Filed 12-21-21; 4:15 pm]

BILLING CODE 9112-FP-P